SECURITIES AND EXCHANGE COMMISSION

[File No. 500-1]

In the Matter of Composite Solutions, Inc., Ruby Creek Resources, Inc., and Voyager Entertainment International Inc.; Order of Suspension of Trading

May 20, 2015.

It appears to the Securities and Exchange Commission that there is a lack of current and accurate information concerning the securities of Composite Solutions, Inc. (CIK No. 1061822), a dissolved Florida corporation with its principal place of business listed as La Jolla, California, with stock quoted on OTC Link (previously, “Pink Sheets”) operated by OTC Markets Group, Inc. (“OTC Link”) under the ticker symbol CPUT, because it has not filed any periodic reports since the period ended June 30, 2005. On March 27, 2007, Composite Solutions, Inc. received a delinquency letter sent by the Division of Corporation Finance requesting compliance with their periodic filing obligations.

It appears to the Securities and Exchange Commission that there is a lack of current and accurate information concerning the securities of Ruby Creek Resources, Inc. (CIK No. 1379810), a Nevada corporation with its principal place of business listed as Los Angeles, California, with stock quoted on OTC Link under the ticker symbol RBYC, because it has not filed any periodic reports since the period ended May 31, 2012. On November 26, 2013, Ruby Creek Resources received a delinquency letter sent by the Division of Corporation Finance requesting compliance with their periodic filing obligations.

It appears to the Securities and Exchange Commission that there is a lack of current and accurate information concerning the securities of Voyager Entertainment International Inc. (CIK No. 1028394), a Nevada corporation with its principal place of business listed as Las Vegas, Nevada, with stock quoted on OTC Link under the ticker symbol VEII, because it has not filed any periodic reports since the period ended September 30, 2011. On October 15, 2013, Voyager Entertainment International received a delinquency letter sent by the Division of Corporation Finance requesting compliance with their periodic filing obligations.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 20, 2015, through 11:59 p.m. EDT on June 3, 2015.

By the Commission.
Jill M. Peterson,
Assistant Secretary.

[FR Doc. 2015-12587 Filed 5-20-15; 11:15 am]

BILLING CODE 8011-01-P